DEPARTMENT OF THE INTERIOR

National Park Service

[NPS-WASO-CR-0212-9590; 2200-1100-665]

Proposed Information Collection; Native American Graves Protection and Repatriation Regulations

AGENCY: National Park Service (NPS), Interior.

ACTION: Notice; request for comments.

SUMMARY: We (U.S. National Park Service) will ask the Office of Management and Budget (OMB) to approve the information collection described below. As required by the Paperwork Reduction Act of 1995 and as part of our continuing efforts to reduce paperwork and respondent burden, we invite the general public and other Federal agencies to take this opportunity to comment on this IC. This IC is scheduled to expire on August 31, 2012. We may not conduct or sponsor and a person is not required to respond to a collection of information unless it displays a valid OMB control number.

DATES: To ensure we are able to consider your comments, we must receive them on or before May 1, 2012.

ADDRESSES: Please send your comments on the ICR to Madonna L. Baucum, Acting Information Collection Clearance Officer, National Park Service, 1201 I Street NW., MS 1242, Washington, DC 20005 (mail); or madonna_baucum@nps.gov (email). Please reference OMB Control Number “1024-0144, Native American Graves Protection and Repatriation Regulations” in the subject line of your comments.

FOR FURTHER INFORMATION CONTACT: Sherry Hutt, Manager, National NAGPRA Program, National Park Service, 1201 Eye Street NW., 8th floor, Washington, DC 20005; or via phone at 202-354-1479; or via fax at 202-354-5179; or via email at Sherry_Hutt@nps.gov. You are entitled to a copy of the entire ICR package free of charge.

SUPPLEMENTARY INFORMATION:

I. Abstract

The Native American Graves Protection and Repatriation Act (NAGPRA), requires museums to compile certain information (summaries, inventories, and notices) regarding Native American cultural items in their possession or control and provide that information to lineal descendants, likely interested Indian tribes and Native Hawaiian organizations, and the National NAGPRA Program (acting on behalf of the Secretary of the Interior, housed in the National Park Service), to support consultation in the process of publishing notices that establish rights to repatriation. The summaries are general descriptions of the museum's Native American collection, sent to all possibly interested tribes to disclose the collection, should the tribe desire to consult on items and present a claim. The inventories are item-by-item lists of the human remains and their funerary objects, upon which the museum consults with likely affiliated tribes to determine cultural affiliation, tribal land origination, or origination from aboriginal lands of Federal recognized tribes. Consultation and claims for items require information exchange between museums and tribes on the collections. Notices of Inventory Completion, published in the Federal Register indicate the museum decisions of rights of lineal descendants and tribes to receive human remains and funerary objects; Notices of Intent to Repatriate, published in the Federal Register, indicate the agreements of museums and tribes to transfer control to tribes of funerary objects, sacred objects and objects of cultural patrimony. Museums identify NAGPRA protected items in the collection through examination of museum records and from consultation with tribes.

The National NAGPRA Program maintains the public databases of summary, inventory and notice information to support consultation. In the first 20 years of the administration of NAGPRA approximately 40,000 Native American human remains, of a possible collection of 180,000 individuals, have been listed in NAGPRA notices. Information collection of previous years is of lasting benefit, diminishing efforts in future years.

II. Data

OMB Number: 1024-0144.

Title: Native American Graves Protection and Repatriation Regulations, 43 CFR part 10.

Service Form Number: None.

Type of Request: Extension of a currently approved collection of information.

Description of Respondents: Museums that receive Federal funds and have possession of or control over Native American cultural items.

Respondent's Obligation: Voluntary.

Frequency of Collection: On occasion.

Estimated Number of Annual Respondents: 100 (NPS estimates 50 new Consultation Inventory & Summary updates and approximately 50 Museum Notices Inventory and Summary).

Completion Time per Response: Public reporting burden for this collection of information is expected to average 100 hours for the exchange of summary/inventory information between a museum or Federal agency and an Indian tribe or Native Hawaiian organization and six hours per response for the notification to the Secretary, including time for reviewing instructions, searching existing data sources, gathering and maintaining the data needed, and completing and reviewing the collected information.

Estimated Total Annual Burden Hours: 5,300 hours, assuming a large, unresolved collection of Native American human remains and NAGPRA cultural items.

Information collections | Annual respondents | Annual response | Avg. time/ response (hr) | Total annual burden hours | $ Value of burden hours (30.07/hr)
(1) Consultation inventory & summary updates | 50 | 50 | 100 | 5,000 | $150,350
(2) Museum Notices Inventory and Summary | 50 | 50 | 6 | 300 | 9,021
Total | 100 | 100 | 106 | 5,300 | 159,371

Estimated Annual Nonhour Burden Cost: None.

III. Comments

We invite comments concerning this information collection on:

• Whether or not the collection of information is necessary, including whether or not the information will have practical utility;

• The accuracy of the burden for this collection of information;

• Ways to enhance the quality, utility, and clarity of the information to be collected; and

• Ways to minimize the burden to respondents, including use of automated information techniques or other forms of information technology.

Please note that the comments submitted in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that it will be done.

Dated: February 27, 2012.
Madonna L. Baucum,
Acting Information Collection Clearance Officer, National Park Service.

[FR Doc. 2012-5128 Filed 3-1-12; 8:45 am]

BILLING CODE 4312-52-P